DEPARTMENT OF HEALTH AND HUMAN SERVICES

National Institutes of Health

Public Conference—Vitamin D: Moving Toward Evidence-Based Decision Making for Primary Care

SUMMARY: A conference to identify issues surrounding evidence-based decision making for vitamin D in primary care will be held December 2-3, 2014, on the main campus of the National Institutes of Health (NIH) in Bethesda, Maryland. It will also be broadcast as a webinar. The conference discussions will serve to highlight research gaps as well as data and methodological needs relevant to reducing uncertainties surrounding vitamin D in primary care practice. All persons are invited to attend, especially clinical educators, those who develop clinical recommendations, health care providers and researchers. Persons wishing to attend are required to register in advance of the conference.

DATES: December 2-3, 2014; 8:00 to 5:00 p.m. (Eastern Time) on first day and 8:00 to noon on second day.

ADDRESSES: National Institutes of Health, William H. Natcher Building; Natcher Conference Center, Building 45. Bethesda, Maryland, 20892.

FOR FURTHER INFORMATION CONTACT: Ms. Cindy Rooney, Office of Dietary Supplements, National Institutes of Health, 6100 Executive Boulevard, Room 3B01, Bethesda, MD 20892-7523, Email: rooneyc@mail.nih.gov.

SUPPLEMENTARY INFORMATION: The conference is sponsored by the NIH Office of Dietary Supplements along with co-sponsors from 10 federal agencies. Information about the conference agenda, registration procedures, and webinar arrangements can be found at: https://events-support.com/events/Vitamin_D_Primary_Care.

Through its Vitamin D Initiative, the National Institutes of Health (NIH) Office of Dietary Supplements (ODS) leads several efforts to advance scientific understanding of vitamin D and health: http://ods.od.nih.gov/Research/VitaminD.aspx.

Dated: October 8, 2014.
Lawrence A. Tabak,
Principal Deputy Director, NIH.

[FR Doc. 2014-24455 Filed 10-15-14; 8:45 am]

BILLING CODE 4140-01-P